ENVIRONMENTAL PROTECTION AGENCY

[EPA-R04-OW-2008-0179; FRL-8565-8]

Extension of the Period for Preparation of Regional Clean Water Act Section 404(c) Recommendation Concerning the Use of Wetlands and Other Waters in the Yazoo River Basin as Disposal Sites, Issaquena County, MS

AGENCY: Environmental Protection Agency (EPA).

ACTION: Notice.

SUMMARY: On March 19, 2008, EPA published in the Federal Register (73 FR 14806) a Notice of a Proposed Determination, under Section 404(c) of the Clean Water Act, to prohibit or restrict the use of certain waters in the Yazoo River Basin in Issaquena County, Mississippi as disposal sites for dredged or fill material in connection with the construction of the proposed Yazoo Backwater Area Project. The notice established a public comment period, which ended on May 5, 2008. On April 17, 2008, a public hearing concerning the Proposed Determination was held in Vicksburg, Mississippi. Over 500 interested stakeholders participated in the five-hour hearing including approximately 65 stakeholders who provided oral statements. EPA has also received over 45,000 written comments, including substantial additional information, which needs to be evaluated. In order to allow full consideration of the extensive administrative record, the time period provided in 40 CFR 231.5(a) for the preparation of the Regional Recommendation, the next step in the 404(c) process, is being extended until no later than, July 11, 2008. This time extension is made under authority of 40 CFR 231.8.

FOR FURTHER INFORMATION CONTACT: Mr. Ronald J. Mikulak, Wetlands Regulatory Section, Wetlands, Coastal and Nonpoint Source Branch, Water Management Division, U.S. Environmental Protection Agency, Region 4, 61 Forsyth Street, SW., Atlanta, Georgia 30303-8960. The telephone number is 404-562-9233. Mr. Mikulak can also be reached via electronic mail at mikulak.ronald@epa.gov or Mr. William Ainslie, Wetlands Regulatory Section, at the same address above. The telephone number is (404) 562-9400. Mr. Ainslie can also be reached via electronic mail at ainslie.william@epa.gov.

Dated: May 7, 2008.
Lawrence E. Starfield,
Regional Decision Officer.

[FR Doc. E8-10832 Filed 5-13-08; 8:45 am]

BILLING CODE 6560-50-P